FEDERAL HIGHWAY ADMINISTRATION

Notice of Final Federal Agency Actions on Proposed Highway in California

AGENCY: Federal Highway Administration (FHWA), Department of Transportation.

ACTION: Notice; correction.

SUMMARY: This Notice makes a correction to a prior Notice of Limitation on Claims for Judicial Review on a highway project in the County of San Mateo, State of California, to correct the reference to Action being taken.

FOR FURTHER INFORMATION CONTACT: Yolanda Rivas, Senior Environmental Planner, California Department of Transportation, District 4, 111 Grand Avenue, Oakland, CA 95901. Office Hours: 8:00 a.m.-5:00 p.m., Pacific Standard Time, telephone (510) 506-1461 or email yolanda.rivas@dot.ca.gov. For FHWA, contact Shawn Oliver at (916) 498-5048 or email Shawn.Oliver@dot.gov.

SUPPLEMENTARY INFORMATION:

Electronic Access

An electronic copy of this document may be downloaded from the Office of the Federal Register's website at www.FederalRegister.gov and the Government Publishing Office's website at www.GovInfo.gov.

Background

On May 11, 2022, at 87 FR 28858, FHWA advised the public of final agency actions subject to 23 U.S.C. 139(l)(1). It further advised that a claim seeking judicial review of the Federal agency actions on the highway project would be barred unless the claim is filed on or before October 11, 2022. In that document, the Action in the heading of the Notice incorrectly read “Notice of Limitation on Claims for Judicial Review of Actions by the California Department of Transportation (Caltrans) and the United States Forest Service (Plumas National Forest) to issue a special use permit to Caltrans.” The Action heading is corrected to read “Notice of Limitation on Claims for Judicial Review of Actions by the California Department of Transportation (Caltrans).”

(Catalog of Federal Domestic Assistance Program Number 20.205, Highway Planning and Construction. The regulations implementing Executive Order 12372 regarding intergovernmental consultation on Federal programs and activities apply to this program.)

Authority: 23 U.S.C. 139(l)(1).

Antonio Johnson,
Director, Planning, Environment and Right of Way, Federal Highway Administration, California Division.

[FR Doc. 2022-19122 Filed 9-2-22; 8:45 am]

BILLING CODE 4910-22-P